FEDERAL COMMUNICATIONS COMMISSION

47 CFR Part 36

[CC Docket Nos. 96-45 and 00-256; FCC 01-157]

Federal-State Joint Board on Universal Service; Multi-Association Group (MAG) Plan for Regulation of Interstate Services of Non-Price-Cap Incumbent Local Exchange Carriers and Interexchange Carriers; Correction

AGENCY: Federal Communications Commission.

ACTION: Correcting amendments.

SUMMARY: This document contains corrections to the final regulations regarding rural high-cost universal service support that were published in the Federal Register of Tuesday, June 5, 2001, 66 FR 30080. The regulations relate to reforms to rural high-cost universal service support recommended by the Rural Task Force.

DATES: Effective August 22, 2007.

FOR FURTHER INFORMATION CONTACT: Katie King, Wireline Competition Bureau, Telecommunications Access Policy Division at (202) 418-7400 (voice), (202) 418-0484 (TTY), or e-mail at Katie.King@fcc.gov.

SUPPLEMENTARY INFORMATION:

Background

The final regulations that are the subject of these corrections amended the Commission's rules relating to high-cost universal service support for rural carriers in response to recommendations of the Rural Task Force. Among other things, the amendments added §§ 36.602 and 36.603 to the Commission's rules and provided that, effective July 1, 2001, §§ 36.602 and 36.603 supersede § 36.601(c) of the Commission's rules. Section 36.622 of the Commission's rules previously contained a reference to § 36.601(c), and additional references to §§ 36.602 and 36.603 were inadvertently omitted in the final rules.

Need for Correction

As published, the final regulations omit references to rule sections that were added, and this omission may be misleading and needs to be corrected.

List of Subjects in 47 CFR Part 36

Jurisdictional separations, Reporting and recordkeeping requirements, Telecommunications, Telephone.

Federal Communications Commission.
Marlene H. Dortch,
Secretary.

Accordingly, 47 CFR part 36 is corrected by making the following correcting amendments:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

Subpart F—Universal Service Fund

1. The authority citation for part 36 continues to read as follows:

Authority: 47 U.S.C. 151, 154(i) and (j), 205, 221(c), 254, 403 and 410.

2. Revise paragraph (c)(2) of § 36.622 to read as follows:

§ 36.622 National and study area average unseparated loop cost.

* * * * *

(c) * * *

(2) Until June 30, 2001, an amount calculated to produce the maximum total Universal Service Fund allowable pursuant to § 36.601(c). Effective July 1, 2001, for non-rural carriers, an amount calculated to produce the maximum non-rural carrier portion of nationwide loop cost expense adjustment allowable pursuant to § 36.602. Effective July 1, 2001, for rural carriers, an amount calculated to produce the maximum rural incumbent local exchange carrier portion of nationwide loop cost expense adjustment allowable pursuant to § 36.603(a).

[FR Doc. E7-16569 Filed 8-21-07; 8:45 am]

BILLING CODE 6712-01-P